DEPARTMENT OF TRANSPORTATION

Federal Motor Carrier Safety Administration

[Docket No. FMCSA-2012-0294; FMCSA-2013-0443; FMCSA-2013-0445;FMCSA-2014-0212; FMCSA-2014-0213; FMCSA-2015-0321; FMCSA-2018-0051; FMCSA-2018-0052; FMCSA-2018-0054; FMCSA-2019-0033; FMCSA-2020-0046; FMCSA-2022-0044]

Qualification of Drivers; Exemption Applications; Epilepsy and Seizure Disorders

AGENCY: Federal Motor Carrier Safety Administration (FMCSA), Department of Transportation (DOT).

ACTION: Notice of final disposition.

SUMMARY: FMCSA announces its decision to renew exemptions for 15 individuals from the requirement in the Federal Motor Carrier Safety Regulations (FMCSRs) that interstate commercial motor vehicle (CMV) drivers have “no established medical history or clinical diagnosis of epilepsy or any other condition which is likely to cause loss of consciousness or any loss of ability to control a CMV.” The exemptions enable these individuals who have had one or more seizures and are taking anti-seizure medication to continue to operate CMVs in interstate commerce.

DATES: The exemptions were applicable on October 21, 2024. The exemptions expire on October 21, 2026.

FOR FURTHER INFORMATION CONTACT: Ms. Christine A. Hydock, Chief, Medical Programs Division, FMCSA, DOT, 1200 New Jersey Avenue SE, Washington, DC 20590-0001, (202) 366-4001, fmcsamedical@dot.gov. Office hours are from 8:30 a.m. to 5 p.m. ET Monday through Friday, except Federal holidays. If you have questions regarding viewing or submitting material to the docket, contact Dockets Operations, (202) 366-9826.

SUPPLEMENTARY INFORMATION:

I. Public Participation

A. Viewing Comments

To view comments go to www.regulations.gov. Insert the docket number (FMCSA-2012-0294, FMCSA-2013-0443, FMCSA-2013-0445, FMCSA-2014-0212, FMCSA-2014-0213, FMCSA-2015-0321, FMCSA-2018-0051, FMCSA-2018-0052, FMCSA-2018-0054, FMCSA-2019-0033, FMCSA-2020-0046, or FMCSA-2022-0044) in the keyword box and click “Search.” Next, sort the results by “Posted (Newer-Older),” choose the first notice listed, and click “Browse Comments.” If you do not have access to the internet, you may view the docket online by visiting Dockets Operations on the ground floor of the DOT West Building, 1200 New Jersey Avenue SE, Washington, DC 20590-0001, between 9 a.m. and 5 p.m. ET Monday through Friday, except Federal holidays. To be sure someone is there to help you, please call (202) 366-9317 or (202) 366-9826 before visiting Dockets Operations.

B. Privacy Act

In accordance with 49 U.S.C. 31315(b)(6), DOT solicits comments from the public on the exemption request. DOT posts these comments, without edit, including any personal information the commenter provides, to www.regulations.gov. As described in the system of records notice DOT/ALL 14 (Federal Docket Management System), which can be reviewed at https://www.transportation.gov/individuals/privacy/privacy-act-system-records-notices, the comments are searchable by the name of the submitter.

II. Background

On September 26, 2024, FMCSA published a notice announcing its decision to renew exemptions for 15 individuals from the epilepsy and seizure disorders prohibition in 49 CFR 391.41(b)(8) to operate a CMV in interstate commerce and requested comments from the public (89 FR 78973). The public comment period ended on October 28, 2024, and one comment was received.

FMCSA has evaluated the eligibility of these applicants and determined that renewing these exemptions would likely achieve a level of safety that is equivalent to, or greater than, the level that would be achieved by complying with § 391.41(b)(8).

The physical qualification standard for drivers regarding epilepsy found in § 391.41(b)(8) states that a person is physically qualified to drive a CMV if that person has no established medical history or clinical diagnosis of epilepsy or any other condition which is likely to cause the loss of consciousness or any loss of ability to control a CMV.

In addition to the regulations, FMCSA has published advisory criteria ¹ to assist medical examiners in determining whether drivers with certain medical conditions are qualified to operate a CMV in interstate commerce.

¹ These criteria may be found in Appendix A to Part 391—Medical Advisory Criteria, section H. Epilepsy: § 391.41(b)(8), paragraphs 3, 4, and 5, which is available on the internet at https://www.gpo.gov/fdsys/pkg/CFR-2015-title49-vol5/pdf/CFR-2015-title49-vol5-part391-appA.pdf.

III. Discussion of Comments

FMCSA received one comment in this proceeding. The commenter stated that while they support the renewal process for seizure exemptions, they believe that the Federal Seizure Exemption Program should include stricter and more frequent medical evaluations to ensure safety. FMCSA requires that exemption holders submit annual reports from their treating physicians attesting to the stability of their treatment and that they have remained seizure-free as well as undergo an annual medical examination by a certified medical examiner, as defined by § 390.5, as conditions of hold the exemption. The commenter's statement regarding improvements for clearer signage and roadway conditions to minimize potentials risks of these drivers is outside the scope of this notice.

IV. Conclusion

Based on its evaluation of the 15 renewal exemption applications and comments received, FMCSA announces its decision to exempt the following drivers from the epilepsy and seizure disorders prohibition in § 391.41(b)(8).

As of October 21, 2024, and in accordance with 49 U.S.C. 31136(e) and 31315(b), the following 15 individuals have satisfied the renewal conditions for obtaining an exemption from the epilepsy and seizure disorders prohibition in the FMCSRs for interstate CMV drivers (89 FR 78973):

Lee Anderson (MA)

Jay Asack (MA)

Peter Bender (MN)

Ronald Blount (GA)

Eric Hilmer (WI)

Lucas Meeker (OH)

Roland Mezger (PA)

Roger Parker (NC)

Nicholas Ramirez (CA)

Michael Ranalli (PA)

Bryan Sheehan (FL)

Matthew Staley (CO)

Joshua Thomas (MN)

Robert Thomas, Jr. (NC)

Peter Thompson (FL)

The drivers were included in docket number FMCSA-2012-0294, FMCSA-2013-0443, FMCSA-2013-0445, FMCSA-2014-0212, FMCSA-2014-0213, FMCSA-2015-0321, FMCSA-2018-0051, FMCSA-2018-0052, FMCSA-2018-0054, FMCSA-2019-0033, FMCSA-2020-0046, or FMCSA-2022-0044. Their exemptions were applicable as of October 21, 2024 and will expire on October 21, 2026.

In accordance with 49 U.S.C. 31315(b), each exemption will be valid for 2 years from the effective date unless revoked earlier by FMCSA. The exemption will be revoked if the following occurs: (1) the person fails to comply with the terms and conditions of the exemption; (2) the exemption has resulted in a lower level of safety than was maintained prior to being granted; or (3) continuation of the exemption would not be consistent with the goals and objectives of 49 U.S.C. 31136(e) and 31315(b).

Larry W. Minor,
Associate Administrator for Policy.

[FR Doc. 2024-26973 Filed 11-18-24; 8:45 am]

BILLING CODE 4910-EX-P